DEPARTMENT OF STATE

[Public Notice 4696]

Bureau of Educational and Cultural Affairs; Request for Grant Proposals for the Partnerships for Learning (P4L) Thematic Youth Projects Initiative

SUMMARY: The Office of Citizen Exchanges, Youth Programs Division of the Bureau of Educational and Cultural Affairs announces an open competition for projects under the P4L Thematic Youth Projects Initiative. Public and private non-profit organizations meeting the provisions described in Internal Revenue Code section 26 U.S.C. 501(c)(3) may submit proposals to recruit and select youth participants in countries with significant Muslim populations and provide the participants with (1) a reciprocal exchange project focused on cultural and civic enhancement, (2) a reciprocal internship project for undergraduate students with academic backgrounds in business management, information systems, economics, and education, or (3) a university-based project promoting free enterprise principles through entrepreneurship projects and exchange visits from U.S. universities. The three programs are described below.

Program Information

Overview: The P4L Thematic Youth Projects Initiative encompasses the three program areas of cultural and civic exchanges, business internships, and free enterprise initiatives as vehicles through which the successor generation can re-engage in a dialogue for greater understanding.

The Linking Individuals, Knowledge, and Culture (LINC) program is designed to foster mutual understanding between participants (ages 15-17) and Americans as well as a respect for democratic practices and the rule of law through a three to six week reciprocal exchange program that will enhance the participants' knowledge of their host country's history, culture, and system of government.

The Business Internship Initiative (BII) creates reciprocal internship placements where undergraduate university students (ages 17-22) can gain international business and management experience in their area of interest.

Through the Free Enterprise Initiative (FEI), undergraduate students (ages 17-22) in foreign countries develop and implement ideas of free enterprise, business leadership and civil society within their universities and local communities. Through international student exchanges, participants learn about best practices within the entrepreneurship arena and build upon the foundation of mutual understanding and respect.

The goals of the P4L Thematic Youth Projects Initiative are:

(1) To develop a sense of civic responsibility and commitment to enhancing cultural bridges among youth.

(2) To promote mutual understanding between the United States and the people of other countries.

(3) To foster personal and institutional ties between participants and partner countries.

Please refer to the Project Objectives Goals and Implementation (POGI) guidelines for specific project goals.

Applicants should identify their own specific objectives and measurable outcomes based on these program goals and the project specifications provided in this solicitation.

Should organizations wish to apply for more than one project, they must submit a separate proposal for each. Each of the three projects will be judged independently and proposals for a particular country or region will be compared only to proposals for the same country or region.

Project A: Linking Individuals, Knowledge, and Culture (LINC)

Total funding: $780,000. ECA will award three to four grants, each totaling no more than $250,000. The Bureau reserves the right to adjust the number of awards and grant amounts.

Project B: Business Internship Initiative (BII)

Total funding: $250,000. 50-55 participants total. Applicants should propose a project implementation timeline beginning no earlier than September 2004. One grant will be awarded.

Project C: Free Enterprise Initiative (FEI)

Total funding: $200,000. 25-30 participants total. Applicants should propose a project implementation timeline beginning no earlier than September 2004. One grant will be awarded.

To qualify for these grants, a partner country must have a significant Muslim population, though the beneficiaries of the grant are in no way limited to the Muslim population, and must be in the following regions: the Middle East/North Africa, Sub-Saharan Africa, South Asia, and Southeast Asia; the only country in Europe/Eurasia that is eligible is Turkey. Afghanistan is not eligible. Programs with Pakistan are restricted to one-way exchange visits to the U.S. Organizations should consider U.S. Department of State travel advisories when selecting countries with which they would like to work.

For the three projects, applicants must demonstrate their capacity for conducting projects of this nature, focusing on three areas of competency: (1) Provision of programs aimed at achieving the goals and themes outlined in this document; (2) age-appropriate programming for the target audience; and (3) work in the countries outlined above. Applicants need to have the necessary capacity in the geographic areas from which participants will be recruited or a partnered institution with the requisite capacity to recruit and select participants for the program and to provide follow-on activities.

The Bureau reserves the right to reduce, revise, or increase proposal budgets in accordance with the needs of the program and the availability of funds. Pending successful implementation of this program and the availability of funds in subsequent fiscal years, the Bureau reserves the right to renew this grant for two additional fiscal years before competing it again.

Guidelines: Grants should begin on or about September 1, 2004, subject to the availability of funds. The grant period may be between 12 and 18 months in duration.

In pursuit of the goals outlined above, the programs will include the following:

• Recruitment and selection of participants appropriate to the project.

• A pre-departure orientation program.

• Activities that promote program goals. Activities may be school-or community-based, as appropriate to the project.

• Logistical arrangements, home stay arrangements (as appropriate) and/or other accommodation, provisions for religious observance, disbursement of stipends/per diem, local travel, and travel between sites (per program design).

• Follow-on activities in the participants' home geographic regions designed to reinforce the ideas, values and skills imparted during the program.

Recruitment and Selection: The grant recipients will manage the recruitment and merit-based selection of participants in cooperation with the Public Affairs offices at the U.S. Embassies or other USG representative offices overseas. Organizers must strive for the broadest geographic, ethnic, and socio-economic diversity as it is the purpose of P4L to engage disadvantaged youth. The Department of State and/or its overseas representatives reserve final approval of all selected delegations.

Participants: The participants will be students aged 15 to 17 for the LINC program. Candidates must have demonstrated leadership aptitude and an interest in community service and development. For the BII and FEI programs, participants will be undergraduates aged 17 to 22. Qualified candidates must have a declared major in a branch of management or business, be interested in the ideas of free enterprise or entrepreneurship and have demonstrated leadership aptitude.

Criteria for selection of participants will be leadership skills, an interest in service to the community, strong academic and social skills, overall composure, openness and flexibility and language proficiency (based on country placements).

Follow-on Activities and In-Country Programming: Follow-on programming for program alumni is essential, and additional in-country programming is strongly recommended. Applicants may present creative and effective ways to address the project themes, for both program participants and their peers, as a means to amplify the program impact.

Applicants are invited to submit proposals for one or more of the three projects announced here (a separate proposal for each project). Programs must comply with J-1 visa regulations. Please refer to Solicitation Package for further information.

Budget Guidelines

The Bureau anticipates awarding three or more grants exceeding $60,000 each under this competition. Bureau grant guidelines require that organizations with less than four years experience in conducting international exchanges be limited to $60,000 in Bureau funding. Therefore, organizations with less than four years of experience in conducting international exchange programs are not eligible to apply under this competition.

Applicants must submit a comprehensive budget for the entire program. There must be a summary budget as well as breakdowns reflecting both administrative and program budgets. Applicants may provide separate sub-budgets for each program component, phase, location, or activity to provide clarification. Please refer to the Solicitation Package for complete budget guidelines and formatting instructions.

Announcement Title and Number: All correspondence with the Bureau concerning this RFGP should reference the following title and number: ECA/PE/C/PY-04-70.

FOR FURTHER INFORMATION CONTACT: The Office of Youth Programs, ECA/PE/C/PY, Room 664, U.S. Department of State, 301 4th Street, SW., Washington, DC 20547, tel. (202) 260-6520, and fax (202) 203-7529, e-mail OrourkeMM@state.gov to request a Solicitation Package. The Solicitation Package contains detailed award criteria, required application forms, specific budget instructions, and standard guidelines for proposal preparation. Please specify Bureau Program Officer Matt O'Rourke on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's Web site at http://exchanges.state.gov/education/RFGPs. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals

Important Note: The deadline for this competition is Tuesday June 1, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles.

Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The complete proposal package (the original proposal, one fully-tabbed copy, 8 copies with Tabs A-E, and one extra application cover sheet) should be sent to: U.S. Department of State, SA-44, Bureau of Educational and Cultural Affairs, Ref.: ECA/PE/C/PY-04-70, Program Management, ECA/EX/PM, Room 534, 301 4th Street, SW., Washington, DC 20547.

Applicants must also submit the “Executive Summary” and “Proposal Narrative” sections of the proposal in text (.txt) format on a PC-formatted disk. The Bureau will provide these files electronically to the Public Affairs Section at the U.S. embassy for its review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into the total proposal. Pub. L. 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR part 62, including the oversight of Responsible Officers and Alternate Responsible Officers, screening and selection of program participants, provision of pre-arrival information and orientation to participants, monitoring of participants, proper maintenance and security of forms, record-keeping, reporting and other requirements. ECA or the Grantee (program office: please specify which) will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Proposals should display an understanding of the goals of the program, as reflected in the priorities of this RFGP. Exchange activities should ensure efficient use of program resources. Proposals should demonstrate a commitment to excellence and creativity in the implementation and management of the program.

2. Program planning: A detailed agenda and relevant work plan should explain how objectives will be achieved and should include a timetable for completion of major tasks. Responsibilities of partnering organizations should be clearly described.

3. Ability to achieve program objectives: Objectives should be reasonable, feasible, and flexible. Proposals should clearly demonstrate how the institution will meet the program's goals and plan. The substance of workshops and exchange activities should be described in detail and included as an attachment.

4. Support of Diversity: Proposals should demonstrate substantive support of the Bureau's policy on diversity. Achievable and relevant features should be cited in both program administration (selection of schools and participants, program venue and program evaluation) and program content. Applicants should refer to the Bureau's Diversity, Freedom and Democracy Guidelines in the Proposal Submission Instructions (PSI).

5. Institutional Capacity/Record/Ability: Applicants should demonstrate knowledge of each country's educational environment and the capacity to recruit U.S. and foreign students. Proposals should present significant experience in developing exchange or intern programs and exhibit an institutional record of successful exchange programs, including responsible fiscal management and full compliance with all reporting requirements as determined by the Bureau's Grants Division. Proposed personnel and institutional resources should be adequate and appropriate to achieve the program goals and objectives.

6. Multiplier Effect/Impact: The program should strengthen long-term mutual understanding and facilitate leadership development. Applicants should detail how participants will share newly-acquired knowledge and skills with others.

7. Program Monitoring and Evaluation: Proposals must include a plan and methodology to evaluate the program's successes and challenges, both as the activities unfold and at the end of the program. The evaluation plan should show a clear link between program objectives and expected outcomes, and should include a description of performance indicators and measurement tools. Applicants should provide draft questionnaires or other techniques for use in surveying participants to facilitate the demonstration of results. The grantee organization will indicate its willingness to submit periodic progress reports in accordance with the program office's expectations.

8. Follow-on and Sustainability: Proposals should provide a strategy for the use of alumni to work together to further the impact of the program without the Bureau's financial support.

9. Cost-effectiveness/Cost sharing: The overhead and administrative components of the proposal, including salaries and honoraria, should be kept as low as possible. While lower “per participant” figures will be more competitive, the Bureau expects all figures to be realistic. All other items should be necessary and appropriate. Proposals should maximize cost-sharing through other private sector support as well as institutional direct funding contributions.

Authority

Overall grant making authority for this program is contained in the Mutual Educational and Cultural Exchange Act of 1961, Pub. L. 87-256, as amended, also known as the Fulbright-Hays Act. The purpose of the Act is “to enable the Government of the United States to increase mutual understanding between the people of the United States and the people of other countries * * * ; to strengthen the ties which unite us with other nations by demonstrating the educational and cultural interests, developments, and achievements of the people of the United States and other nations * * * and thus to assist in the development of friendly, sympathetic and peaceful relations between the United States and the other countries of the world.” The funding authority for the program above is provided through the FY04 Exchanges budget.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 20, 2004.
C. Miller Crouch,
Principal Deputy Assistant Secretary, Bureau of Educational and Cultural Affairs, Department of State.

[FR Doc. 04-9440 Filed 4-23-04; 8:45 am]

BILLING CODE 4710-05-P